DEPARTMENT OF TRANSPORTATION

Federal Aviation Administration

RTCA Special Committee 147 Sixty Seventh Plenary: Minimum Operational Performance Standards for Traffic Alert and Collision Avoidance Systems Airborne Equipment

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment.

DATES: The meeting will be held March 13, 2008 from 9 a.m.-5 p.m.

ADDRESSES: The meeting will be held at RTCA, Inc. 1828 L Street, Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 147 Meeting and Working Group 75. The agenda will include:

• March 13:

• Opening Plenary Session: (Welcome and Introductory Remarks, Review/Approval of minutes from 66th SC-147 meeting, Review Agenda).

• FAA TCAS II Program Office Activities:

• EUROCONTROL TCAS II Program Office Activities.

• Requirements Working Group (RWG) Activities.

• Review and resolution of comments/issues from FRAC.

• Consideration of Final Draft of TCAS MOPS-DO-185B.

• Other WG75 Activities.

• Future Plans for WG-75.

• Future Plans for SC-147.

• Closing Session (Other Business, Future Actions/Activities, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 11, 2008.
Francisco Estrada C.,
RTCA Advisory Committee.

[FR Doc. 08-732 Filed 2-19-08; 8:45 am]

BILLING CODE 4910-13-M